DEPARTMENT OF DEFENSE

Office of the Secretary

[Docket ID: DOD-2009-OS-0047]

Privacy Act of 1974; Systems of Records

AGENCY: National Security Agency/Central Security Service, DoD.

ACTION: Notice to amend a system of records.

SUMMARY: The National Security Agency (NSA) is proposing to amend a system of records notice in its inventory of record systems subject to the Privacy Act of 1974, (5 U.S.C. 552a), as amended.

DATES: This proposed action will be effective without further notice on April 22, 2009 unless comments are received which would result in a contrary determination.

ADDRESSES: Send comments to the National Security Agency/ Central Security Service, Freedom of Information Act and Privacy Act Office, 9800 Savage Road, Suite 6248, Ft. George G. Meade, MD 20755-6248.

FOR FURTHER INFORMATION CONTACT: Ms. Anne Hill at (301) 688-6527.

SUPPLEMENTARY INFORMATION: The National Security Agency's systems of notices subject to the Privacy Act of 1974 (5 U.S.C. 552a), as amended, have been published in the Federal Register and are available from the address above.

The specific changes to the records systems being amended are set forth below followed by the notices, as amended, published in their entirety. The proposed amendments are not within the purview of subsection (r) of the Privacy Act of 1974, (5 U.S.C. 552a), as amended, which requires the submission of a new or altered system report.

Dated: March 18, 2009.
Morgan E. Frazier,
Alternate OSD Federal Register Liaison Officer, Department of Defense.

GNSA 12

NSA/CSS Training (February 22, 1993, 58 FR 10531).

CHANGES:

* * * * *

SYSTEM NAME:

Delete entry and replace with “NSA/CSS Education, Training and Workforce Development.”

* * * * *

CATEGORIES OF RECORDS IN THE SYSTEM:

Delete entry and replace with “Files may consist of individual name, Social Security Number (SSN), employee identification number, date of birth, home address, home telephone number, education level, and scholastic achievements; forms; correspondence; memoranda; testing information (tests, test results, test grades); course grades; student course and instructor evaluations; course and class rosters/attendance rosters; grade reports; registration records requirements; course and training histories; rosters of individuals by skill community/specialty; attendance and time utilization reports for students and instructors; biographical sketches where required and appropriate; student disciplinary actions and complaints; waiver requests and responses; reimbursement and service agreements where appropriate; and other records related to civilian and military training as required and appropriate (e.g., copies of contracts, Authorizations, Agreement, and Certification of Training forms, Economy Act Orders, welcome letters, course agendas; class schedules; visit request information; bus confirmation e-mail; course materials; e-print order for course material; Video Teleconferencing confirmation; and additional assessment tool forms.”

AUTHORITY FOR MAINTENANCE OF THE SYSTEM:

Delete entry and replace with “5 U.S.C. 4101-4118, Training; E.O. 11348, Providing for the Further Training of Government Employees; Section 10 of Public Law 86-36, National Security Agency Act of 1959; and E.O. 9397 (SSN).”

* * * * *

ROUTINE USES OF RECORDS MAINTAINED IN THE SYSTEM, INCLUDING CATEGORIES OF USERS AND THE PURPOSES OF SUCH USES:

Delete entry and replace with “In addition to those disclosures generally permitted under 5 U.S.C. 552a(b) of the Privacy Act, these records or information contained therein may specifically be disclosed outside the DoD as a routine use pursuant to 5 U.S.C. 552a(b)(3) as follows:

Portions of these files are made available to other governmental and non-governmental entities in support of training requirements.

To contractor employees to make determinations as noted in the purposes above.

In any legal proceeding, where pertinent, to which DoD is a party before a court or administrative body (including, but not limited to, the Equal Employment Opportunity Commission and Merit Systems Protection Board).

The ‘DoD Blanket Routine Uses’ set forth at the beginning of NSA/CSS' compilation of systems of records notices apply to this system.”

POLICIES AND PRACTICES FOR STORING, RETRIEVING, ACCESSING, RETAINING, AND DISPOSING OF RECORDS IN THE SYSTEM:

STORAGE:

Delete entry and replace with “Paper in file folders and electronic storage media.”

RETRIEVABILITY:

Delete entry and replace with “By name, Social Security Number (SSN) or employee identification number.”

SAFEGUARDS:

Delete entry and replace with “Buildings are secured by a series of guarded pedestrian gates and checkpoints. Access to facilities is limited to security-cleared personnel and escorted visitors only. Within the facilities themselves, access to paper and computer printouts are controlled by limited-access facilities and lockable containers. Access to electronic means is limited and controlled by computer password protection. Access to information is limited to those individuals authorized and responsible for personnel management or supervision.”

* * * * *

SYSTEM MANAGER(S) AND ADDRESS:

Delete entry and replace with “The Associate Director for Education and Training, National Security Agency/Central Security Service, Ft. George G. Meade, MD 20755-6000.”

NOTIFICATION PROCEDURE:

Delete entry and replace with “Individuals seeking to determine whether information about themselves is contained in this system should address written inquiries to the National Security Agency/Central Security Service, Freedom of Information Act/Privacy Act Office, 9800 Savage Road, Ft. George G. Meade, MD 20755-6000.

Written inquiries should contain the individual's full name, Social Security Number (SSN) and mailing address.”

RECORD ACCESS PROCEDURES:

Delete entry and replace with “Individuals seeking access to information about themselves contained in this system should address written inquiries to the National Security Agency/Central Security Service, Freedom of Information Act/Privacy Act Office, 9800 Savage Road, Ft. George G. Meade, MD 20755-6000.

Written inquiries should contain the individual's full name, Social Security Number (SSN) and mailing address.”

CONTESTING RECORD PROCEDURES:

Delete entry and replace with “The NSA/CSS rules for contesting contents and appealing initial determinations are published at 32 CFR part 322 or may be obtained by written request addressed to the National Security Agency/Central Security Service, Freedom of Information Act/Privacy Act Office, 9800 Savage Road, Ft. George G. Meade, MD 20755-6000.”

* * * * *

GNSA 12

SYSTEM NAME:

NSA/CSS Education, Training and Workforce Development

SYSTEM LOCATION:

Primary location—National Security Agency/Central Security Service, Ft. George G. Meade, MD 20755-6000.

Decentralized segments—Each staff, line, contract and field element as authorized and appropriate.

CATEGORIES OF INDIVIDUALS COVERED BY THE SYSTEM:

NSA/CSS employees, personnel under contract, military assignees and other government employees, designees and military personnel as required and appropriate who attend courses or receive training by or under NSA/CSS sponsorship.

CATEGORIES OF RECORDS IN THE SYSTEM:

Files may consist of individual name, Social Security Number (SSN), employee identification number, date of birth, home address, home telephone number, education level, and scholastic achievements; forms; correspondence; memoranda; testing information (tests, test results, test grades); course grades; student course and instructor evaluations; course and class rosters/attendance rosters; grade reports; registration records requirements; course and training histories; rosters of individuals by skill community/specialty; attendance and time utilization reports for students and instructors; biographical sketches where required and appropriate; student disciplinary actions and complaints; waiver requests and responses; reimbursement and service agreements where appropriate; and other records related to civilian and military training as required and appropriate (e.g., copies of contracts, Authorizations, Agreement, and Certification of Training forms, Economy Act Orders, welcome letters, course agendas; class schedules; visit request information; bus confirmation e-mail; course materials; e-print order for course material; Video Teleconferencing confirmation; and additional assessment tool forms.

AUTHORITY FOR MAINTENANCE OF THE SYSTEM:

5 U.S.C. 4101-4118, Training; E.O. 11348, Providing for the Further Training of Government Employees; Section 10 of Public Law 86-36, National Security Agency Act; and E.O. 9397 (SSN).

PURPOSE(S):

To maintain training records necessary to assure the equitable selection and approval of employees for NSA/CSS training or sponsorship; to provide documentation concerning military crypto linguist resources and individual training, develop training requirements, refine training methods and techniques, and provide individual career and training counseling.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside the DoD as a routine use pursuant to 5 U.S.C. 552a(b)(3) as follows:

Portions of these files are made available to other governmental and non-governmental entities in support of training requirements.

To contractor employees to make determinations as noted in the purposes above.

In any legal proceeding, where pertinent, to which DoD is a party before a court or administrative body (including, but not limited to, the Equal Employment Opportunity Commission and Merit Systems Protection Board).

The ‘DoD Blanket Routine Uses' set forth at the beginning of NSA/CSS' compilation of systems of records notices apply to this system.

POLICIES AND PRACTICES FOR STORING, RETRIEVING, ACCESSING, RETAINING, AND DISPOSING OF RECORDS IN THE SYSTEM:

STORAGE:

Paper in file folders and electronic storage media.

RETRIEVABILITY:

By name, Social Security Number (SSN) or employee identification number.

SAFEGUARDS:

Buildings are secured by a series of guarded pedestrian gates and checkpoints. Access to facilities is limited to security-cleared personnel and escorted visitors only. Within the facilities themselves, access to paper and computer printouts are controlled by limited-access facilities and lockable containers. Access to electronic means is limited and controlled by computer password protection. Access to information is limited to those individuals authorized and responsible for personnel management or supervision.

RETENTION AND DISPOSAL:

Primary System—Records are reviewed annually and retained or destroyed as appropriate. Copies of items of significance with respect to the individual are included in the Personnel File and retention is in accordance with the retention policies for that system. Items used as the basis of statistical studies or other research efforts may be retained indefinitely. Computer listings and records are purged and updated as required and appropriate.

Decentralized System—Records are reviewed annually and retained or destroyed as appropriate. Individual's file may be transferred to gaining organization if appropriate. Computer listings and records are purged and updated as required and appropriate.

SYSTEM MANAGER(S) AND ADDRESS:

The Associate Director for Education and Training, National Security Agency/Central Security Service, Ft. George G. Meade, MD 20755-6000.

NOTIFICATION PROCEDURE:

Individuals seeking to determine whether information about themselves is contained in this system should address written inquiries to the National Security Agency/Central Security Service, Freedom of Information Act/Privacy Act Office, 9800 Savage Road, Ft. George G. Meade, MD 20755-6000.

Written inquiries should contain the individual's full name, Social Security Number (SSN) and mailing address.

RECORD ACCESS PROCEDURES:

Individuals seeking access to information about themselves contained in this system should address written inquiries to the National Security Agency/Central Security Service, Freedom of Information Act/Privacy Act Office, 9800 Savage Road, Ft. George G. Meade, MD 20755-6000.

Written inquiries should contain the individual's full name, Social Security Number (SSN) and mailing address.

CONTESTING RECORD PROCEDURES:

The NSA/CSS rules for contesting contents and appealing initial determinations are published at 32 CFR part 322 or may be obtained by written request addressed to the National Security Agency/Central Security Service, Freedom of Information Act/Privacy Act Office, 9800 Savage Road, Ft. George G. Meade, MD 20755-6000.

RECORD SOURCE CATEGORIES:

Individual, supervisors, training counselors, instructors and other training personnel; other governmental entities nominating individuals for training; other training and educational institutions; Personnel File, and other sources as required and appropriate.

EXEMPTIONS CLAIMED FOR THE SYSTEM:

Individual records in this file may be exempt pursuant to 5 U.S.C. 552a(k)(1), (k)(5) and (k)(6), as applicable. An exemption rule for this record system has been promulgated according to the requirements of 5 U.S.C. 553(b)(1), (2), and (3), (c) and (e) and published in 32 CFR part 322. For additional information contact the system manager.

[FR Doc. E9-6277 Filed 3-20-09; 8:45 am]

BILLING CODE 5001-06-P